TENNESSEE VALLEY AUTHORITY

Meeting of the Regional Energy Resource Council

AGENCY: Tennessee Valley Authority (TVA).

ACTION: Notice of meeting.

SUMMARY: The TVA Regional Energy Resource Council (RERC) will hold an orientation meeting on Wednesday, October 23, 2013, regarding regional energy related issues in the Tennessee Valley.

The RERC was established to advise TVA on its energy resource activities and the priorities among competing objectives and values. Notice of this meeting is given under the Federal Advisory Committee Act (FACA), 5 U.S.C. App. 2.

The meeting agenda includes the following:

1. Introductions.

2. Presentation(s) and discussion concerning the purpose and scope of the RERC, energy resources in the Valley, energy issues and the Integrated Resource Plan process.

3. Public Comments.

4. Council Discussion.

The RERC will hear opinions and views of citizens by providing a public comment session. The public comment session will be held at 1:30 p.m. C.D.T. on Wednesday, October 23, 2013. Persons wishing to speak are requested to register at the door by 12:30 p.m. on Wednesday, October 23, 2013, and will be called on during the public comment period. Handout materials should be limited to one printed page. Written comments are also invited and may be mailed to the Regional Energy Resource Council, Tennessee Valley Authority, 400 West Summit Hill Drive, WT-11 B, Knoxville, Tennessee 37902.

DATES: The meeting will be held on Wednesday, October 23, 2013, from 8:30 a.m. to 4 p.m. c.d.t.

ADDRESSES: The meeting will be held at the Tennessee Valley Authority's Central In-Process Training Center, 29199 US Highway 72, Hollywood, Alabama, 35752, and will be open to the public. Anyone needing special access or accommodations should let the contact below know at least a week in advance.

FOR FURTHER INFORMATION CONTACT: Beth Keel, 400 West Summit Hill Drive, WT-11 B, Knoxville, Tennessee 37902, (865) 632-6113.

Dated: September 25, 2013.
John W. Myers,
Director, Environmental Policy & Regulatory Affairs, Tennessee Valley Authority.

[FR Doc. 2013-23919 Filed 9-30-13; 8:45 am]

BILLING CODE 8120-08-P